DEPARTMENT OF TRANSPORTATION

Federal Aviation Administration

14 CFR Part 39

[Docket No. FAA-2005-20724; Directorate Identifier 2004-NM-233-AD; Amendment 39-14115; AD 2005-11-13]

RIN 2120-AA64

Airworthiness Directives; BAE Systems (Operations) Limited Model BAe 146 Airplanes

AGENCY: Federal Aviation Administration (FAA), Department of Transportation (DOT).

ACTION: Final rule.

SUMMARY: The FAA is adopting a new airworthiness directive (AD) for certain BAE Systems (Operations) Limited Model BAe 146 airplanes. This AD requires repetitive inspections for cracks of the fuselage pressure skin above the left and right main landing gear (MLG) bay. This AD also requires corrective action, including related investigative actions, if leaks are found. This AD is prompted by reports of cracks in the fuselage pressure skin above the left and right MLG bay. We are issuing this AD to detect and correct fatigue cracking in the fuselage pressure skin above the left and right MLG bay; such fatigue cracking could adversely affect the structural integrity of the fuselage and its ability to maintain pressure differential.

DATES: This AD becomes effective July 12, 2005.

The incorporation by reference of a certain publication listed in the AD is approved by the Director of the Federal Register as of July 12, 2005.

ADDRESSES: For service information identified in this AD, contact British Aerospace Regional Aircraft American Support, 13850 Mclearen Road, Herndon, Virginia 20171.

Docket: The AD docket contains the proposed AD, comments, and any final disposition. You can examine the AD docket on the Internet at http://dms.dot.gov, or in person at the Docket Management Facility office between 9 a.m. and 5 p.m., Monday through Friday, except Federal holidays. The Docket Management Facility office (telephone (800) 647-5227) is located on the plaza level of the Nassif Building at the U.S. Department of Transportation, 400 Seventh Street SW., room PL-401, Washington, DC. This docket number is FAA-2005-20724; the directorate identifier for this docket is 2004-NM-233-AD.

FOR FURTHER INFORMATION CONTACT: Todd Thompson, Aerospace Engi neer, International Branch, ANM-116, FAA, Transport Airplane Directorate, 1601 Lind Avenue, SW., Renton, Washington 98055-4056; telephone (425) 227-1175; fax (425) 227-1149.

SUPPLEMENTARY INFORMATION: The FAA proposed to amend 14 CFR part 39 with an AD for certain BAE Systems (Operations) Limited Model BAe 146 airplanes. That action, published in the Federal Register on March 30, 2005 (70 FR 16173), proposed to require repetitive inspections for cracks of the fuselage pressure skin above the left and right main landing gear (MLG) bay. The action also proposed AD to require corrective action, including related investigative actions, if leaks are found.

Comments

We provided the public the opportunity to participate in the development of this AD. No comments have been submitted on the proposed AD or on the determination of the cost to the public.

Explanation of Change to Applicability

We have revised the applicability of the proposed AD to identify model designations as published in the most recent type certificate data sheet for the affected model.

Conclusion

We have carefully reviewed the available data and determined that air safety and the public interest require adopting the AD with the change described previously. We have determined that this change will neither increase the economic burden on any operator nor increase the scope of the AD.

Costs of Compliance

The following table provides the estimated costs for U.S. operators to comply with this AD.

Estimated Costs
Action | Work hours | Average labor rate per hour | Parts | Cost per airplane | Number of U.S.-registered airplanes | Fleet cost
Inspection, per inspection cycle | 7 | $65 | $0 | $455 | 18 | $8,190, per inspection cycle.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in Subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2005-11-13 BAE Systems (Operations) Limited (Formerly British Aerospace Regional Aircraft): Amendment 39-14115. Docket No. FAA-2005-20724; Directorate Identifier 2004-NM-233-AD.

Effective Date

(a) This AD becomes effective July 12, 2005.

Affected ADs

(b) None.

Applicability

(c) This AD applies to BAE Systems (Operations) Limited Model BAe 146-100A, -200A, and -300A series airplanes, certificated in any category; except those on which BAe Modification HCM00972A or HCM00972C has been accomplished.

Unsafe Condition

(d) This AD was prompted by reports of cracks in the fuselage pressure skin above the left and right main landing gear (MLG) bay. We are issuing this AD to detect and correct fatigue cracking in the fuselage pressure skin above the left and right MLG bay; such fatigue cracking could adversely affect the structural integrity of the fuselage and its ability to maintain pressure differential.

Compliance

(e) You are responsible for having the actions required by this AD performed within the compliance times specified, unless the actions have already been done.

Initial and Repetitive Inspections

(f) At the times specified in Table 1 of this AD, inspect the fuselage pressure skin above the left and right MLG bay for cracks in accordance with the Accomplishment Instructions of BAE Systems (Operations) Limited Inspection Service Bulletin 53-170, dated August 8, 2003.

Table 1.—Compliance Times
For airplanes listed in paragraph (c) of this AD— | Do initial inspections— | And do repetitive inspections thereafter—
On which neither BAe modification HCM00744M nor HCM00850A has been accomplished | Prior to the accumulation of 15,000 total flight cycles or within 500 flight cycles after the effective date of this AD, whichever occurs later | At intervals not to exceed 1,000 flight cycles.
On which either BAe modification HCM00744M or HCM00850A has been accomplished On which both BAe modifications HCM00744M and HCM00850A have been accomplished | Prior to the accumulation of 15,000 total flight cycles or within 1,000 flight cycles after the effective date of this AD, whichever occurs later | At intervals not to exceed 3,000 flight cycles.

Corrective Action

(g) If any crack is found during any inspection required by paragraph (f) of this AD, do the corrective action and any related investigative actions, in accordance with the Accomplishment Instructions of BAE Systems (Operations) Limited Inspection Service Bulletin 53-170, dated August 8, 2003, except as required by paragraph (h) of this AD.

(h) If any cracking is found during any inspection or related investigative action required by this AD, and the service bulletin recommends contacting BAE Systems for appropriate action: Before further flight, repair the cracks according to a method approved by the Manager, International Branch, ANM-116, FAA, Transport Airplane Directorate; or the Civil Aviation Authority (or its delegated agent).

No Reporting

(i) Although the service bulletin referenced in this AD specifies to submit certain information to the manufacturer, this AD does not include that requirement.

Alternative Methods of Compliance (AMOCs)

(j) The Manager, International Branch, ANM-116, has the authority to approve AMOCs for this AD, if requested in accordance with the procedures found in 14 CFR 39.19.

Related Information

(k) British airworthiness directive G-2004-0004, dated February 26, 2004, also addresses the subject of this AD.

Material Incorporated by Reference

(l) You must use BAE Systems (Operations) Limited Inspection Service Bulletin 53-170, dated August 8, 2003, to perform the actions that are required by this AD, unless the AD specifies otherwise. The Director of the Federal Register approves the incorporation by reference of this document in accordance with 5 U.S.C. 552(a) and 1 CFR part 51. To get copies of the service information, contact British Aerospace Regional Aircraft American Support, 13850 Mclearen Road, Herndon, Virginia 20171. To view the AD docket, go to the Docket Management Facility, U.S. Department of Transportation, 400 Seventh Street SW., room PL-401, Nassif Building, Washington, DC. To review copies of the service information, go to the National Archives and Records Administration (NARA). For information on the availability of this material at the NARA, call (202) 741-6030, or go to http://www.archives.gov/federal_register/code_of_federal_regulations/ibr_locations.html.

Issued in Renton, Washington, on May 26, 2005.
Ali Bahrami,
Manager, Transport Airplane Directorate, Aircraft Certification Service.

[FR Doc. 05-11056 Filed 6-6-05; 8:45 am]

BILLING CODE 4910-13-P